DEPARTMENT OF TRANSPORTATION

Federal Aviation Administration

14 CFR Part 39

[Docket No. 2003-NM-114-AD]

RIN 2120-AA64

Airworthiness Directives; Saab Model SAAB SF340A and SAAB 340B Series Airplanes

AGENCY: Federal Aviation Administration, DOT.

ACTION: Notice of proposed rulemaking (NPRM).

SUMMARY: This document proposes the adoption of a new airworthiness directive (AD) that is applicable to certain Saab Model SAAB SF340A and SAAB 340B series airplanes. This proposal would require modification of the hot detection system of the tail pipe harness of the engine nacelles. This action is necessary to prevent false warning indications to the flight crew from the hot detection system due to discrepancies of the harness, which could result in unnecessary aborted takeoffs on the ground or an in-flight engine shut down. This action is intended to address the identified unsafe condition.

DATES: Comments must be received by May 3, 2004.

ADDRESSES: Submit comments in triplicate to the Federal Aviation Administration (FAA), Transport Airplane Directorate, ANM-114, Attention: Rules Docket No. 2003-NM-114-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2003-NM-114-AD” in the subject line and need not be submitted in triplicate. Comments sent via the Internet as attached electronic files must be formatted in Microsoft Word 97 or 2000 or ASCII text.

The service information referenced in the proposed rule may be obtained from Saab Aircraft AB, SAAB Aircraft Product Support, S-581.88, Linköping, Sweden. This information may be examined at the FAA, Transport Airplane Directorate, 1601 Lind Avenue, SW., Renton, Washington.

FOR FURTHER INFORMATION CONTACT: Rosanne Ryburn, Aerospace Engineer, International Branch, ANM-116, FAA, Transport Airplane Directorate, 1601 Lind Avenue, SW., Renton, Washington 98055-4056; telephone (425) 227-2139; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2003-NM-114-AD.” The postcard will be date stamped and returned to the commenter.

Availability of NPRMs

Any person may obtain a copy of this NPRM by submitting a request to the FAA, Transport Airplane Directorate, ANM-114, Attention: Rules Docket No. 2003-NM-114-AD, 1601 Lind Avenue, SW., Renton, Washington 98055-4056.

Discussion

The Luftfartsverket (LFV), which is the airworthiness authority for Sweden, notified the FAA that an unsafe condition may exist on certain Saab Model SAAB SF340A and SAAB 340B series airplanes. The LFV advises that operators have reported false warning indications to the flight crew from the hot detection system of the tail pipe harness of the engine nacelles. The cause of the false warnings has been attributed to moisture ingress, corroded connectors, and chafed and broken wires of the hot detection harness of the tail pipe. Such false warnings have resulted in unnecessary aborted takeoffs on the ground and in-flight engine shut downs.

Explanation of Relevant Service Information

Saab has issued Service Bulletin 340-26-030, dated October 28, 2002, which describes procedures for modification of the hot detection harness, which include the following:

• A one-time inspection of the heat shrink sleeve, sealant, and connectors of the hot detection harness of the tail pipe for damage and/or corrosion, and repair if necessary.

• Installation of a new hot detection harness.

• Installation of new terminal lugs and shrinkable tube.

• Installation of sealant around the terminal lugs on the fire detectors.

The service bulletin also describes procedures for an operational test of the fire detection system of the engine nacelles following accomplishment of the above actions.

In addition, Service Bulletin 340-26-030 specifies that incorporation of the modifications specified in Saab Service Bulletins 340-26-018, Revision 02, and 340-26-029, both dated October 28, 2002; meets the modification specified in the referenced service bulletin. These service bulletins describe modifications similar to the modification specified in the referenced service bulletin.

Accomplishment of the actions specified in Service Bulletin 340-26-030 is intended to adequately address the identified unsafe condition. The LFV classified this service bulletin as mandatory and issued Swedish airworthiness directive 1-184, dated October 28, 2002, to ensure the continued airworthiness of these airplanes in Sweden.

FAA's Conclusions

These airplane models are manufactured in Sweden and are type certificated for operation in the United States under the provisions of section 21.29 of the Federal Aviation Regulations (14 CFR 21.29) and the applicable bilateral airworthiness agreement. Pursuant to this bilateral airworthiness agreement, the LFV has kept us informed of the situation described above. We have examined the findings of the LFV, reviewed all available information, and determined that AD action is necessary for products of this type design that are certificated for operation in the United States.

Explanation of Requirements of Proposed Rule

Since an unsafe condition has been identified that is likely to exist or develop on other airplanes of the same type design registered in the United States, the proposed AD would require accomplishment of the actions specified in Service Bulletin 340-26-030, except as discussed below.

Difference Between Service Bulletin and This Proposed AD

The referenced service bulletin refers only to an “inspection” for damage and/or corrosion of the heat shrink sleeve, sealant, and connectors of the hot detection harness of the tail pipe. We have determined that the procedures in the referenced service bulletin should be described as a “general visual inspection.” Note 1 has been included in this proposed AD to define this type of inspection.

Cost Impact

The FAA estimates that 280 airplanes of U.S. registry would be affected by this proposed AD, that it would take about 10 work hours per airplane to accomplish the proposed modification, and that the average labor rate is $65 per work hour. Required parts would be free of charge. Based on these figures, the cost impact of the proposed modification on U.S. operators is estimated to be $182,000, or $650 per airplane.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Saab Aircraft AB: Docket 2003-NM-114-AD.

Applicability: Model SAAB SF340A series airplanes, serial numbers -004 through -159 inclusive, and SAAB 340B series airplanes, serial numbers -160 through -459 inclusive, certificated in any category.

Compliance: Required as indicated, unless accomplished previously.

To prevent false warning indications to the flight crew from the hot detection system of the tail pipe harness of the engine nacelles due to discrepancies of the harness, which could result in unnecessary aborted takeoffs on the ground or an in-flight engine shut down, accomplish the following:

Modification

(a) Within one year after the effective date of this AD: Modify the hot detection system of the tail pipe harness of the engine nacelles (including a general visual inspection of the heat shrink sleeve, sealant, and connectors for damage and/or corrosion, and any applicable repair), by doing all the actions per Parts 2.A. through 2.I. inclusive of the Accomplishment Instructions of Saab Service Bulletin 340-26-030, dated October 28, 2002. Any applicable repair must be done before further flight.

Note 1: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

(b) Accomplishment of the modifications specified in Saab Service Bulletins 340-26-018, Revision 02, and 340-26-029, both dated October 28, 2002; before the effective date of this AD, is considered acceptable for compliance with the modification required by paragraph (a) of this AD.

Alternative Methods of Compliance

(c) In accordance with 14 CFR 39.19, the Manager, International Branch, ANM-116, FAA, Transport Airplane Directorate, is authorized to approve alternative methods of compliance for this AD.

Note 2: The subject of this AD is addressed in Swedish airworthiness directive 1-184, dated October 28, 2002.

Issued in Renton, Washington, on March 26, 2004.
Kalene C. Yanamura,
Acting Manager, Transport Airplane Directorate, Aircraft Certification Service.

[FR Doc. 04-7302 Filed 3-31-04; 8:45 am]

BILLING CODE 4910-13-P